DEPARTMENT OF HEALTH AND HUMAN SERVICES

Administration for Children and Families

Submission of OMB Review; Comment Request

Title: Compassion Capital Fund Evaluation—Intermediary Survey.

OMB No.: New Collection.

Description: This proposed information collection activity is for a survey to be completed by Compassion Capital Fund intermediary grantees as a part of the outcome and impact study components of the Compassion Capital Fund Evaluation.

The Compassion Capital F und Evaluation is a multi-component study designed to examine the effectiveness of the Compassion Capital Fund (CCF) in meeting its objective of improving the organizational capacity of faith-based and community organizations. The CCF program works through intermediary organizations to provide capacity building assistance to interested faith-based and community organizations. The purpose of this data collection activity is to obtain more detailed information about the management processes and service delivery and monitoring approaches used by CCF intermediaries in providing technical and financial assistance to increase the organizational capacity of faith-based and community organizations.

Respondents: CCF intermediary grantees.

Annual Burden Estimates

Instrument | Number of respondents | Number of responses per respondent | Average burden hours per response | Total burden hours
Intermediary survey | 54 | 1 | .5 | 27

Estimated Total Annual Burden Hours: 27.

Additional Information: Copies of the proposed collection may be obtained by writing to the Administration for Children and Families, Office of Administration, Office of Information Services, 370 L/Enfant Promenade, SW., Washington, DC 20447, ATtn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sen directly to the following: Office of Management and Budget, Paperwork Reduction Project, Attn: Desk Officer for ACF, E-mail address: Karen_Y._Matsuoka@omb.eop.gov.

Dated: October 5, 2006.
Robert Sargis,
Reports Clearance Officer.

[FR Doc. 06-8959 Filed 10-27-06; 8:45 am]

BILLING CODE 4184-01-M